DEPARTMENT OF LABOR

Employment and Training Administration

[TA-W-41,614 and TA-W-41,614A]

Great Northern Paper, Inc., Millinocket, ME, Great Northern Paper, Inc., East Millinocket, ME; Amended Certification Regarding Eligibility to Apply for Worker Adjustment Assistance

In accordance with section 223 of the Trade Act of 1974 (19 U.S.C. 2273) the Department Labor issued a Certification of Eligibility to Apply for Worker Adjustment Assistance on July 15, 2002, applicable to workers of Great Northern Paper, Inc., Millinocket, Maine. The notice was published in the Federal Register on July 29, 2002 (67 FR 49039).

At the request of the State agency, the Department reviewed the certification for workers of the subject firm. New findings show that workers engaged in employment related to the production of groundwood pulp were separated from employment at the subject firm's East Millinocket, Maine facility. A meaningful portion of the groundwood pulp produced at Great Northern Paper, Inc., East Millinocket, Maine was consumed by the subject firm's mill in Millinocket, Maine, for its production of coated and uncoated specialty paper.

Workers at Great Northern Paper, Inc., East Millinocket, Maine, also produce paper for telephone directories and are separately identifiable from those producing groundwood pulp. There was no allegation that imports of paper for telephone directories contributed to worker separations.

The Department is amending the certification to cover workers at Great Northern Paper, Inc., East Millinocket, Maine, engaged in employment related to the production of groundwood pulp.

The amended notice applicable to TA-W-41,614 is hereby issued as follows:

“All workers of Great Northern Paper, Inc., Millinocket, Maine (TA-W-41,614); and workers engaged in employment related to the production of groundwood pulp at Great Northern Paper, East Millinocket (TA-W-41,616A) who became totally or partially separated from employment on or after May 17, 2001, through July 15, 2004, are eligible to apply for adjustment assistance under Section 223 of the Trade Act of 1974.”

Signed at Washington DC, this 31st day of July, 2002.
Linda G. Poole,
Certifying Officer, Division of Trade Adjustment Assistance.

[FR Doc. 02-20617 Filed 8-13-02; 8:45 am]

BILLING CODE 4510-30-P